DEPARTMENT OF THE INTERIOR

Bureau of Land Management

[NV-055-1232-HB]

Temporary Closure of the Red Rock Canyon Visitors Center, Las Vegas, Nevada

AGENCY: Bureau of Land Management, Interior.

ACTION: The Acting Field Manager, Las Vegas Field Office, Las Vegas, Nevada, announces a temporary closure of the Red Rock National Conservation Area, Visitors Center, in Las Vegas, Nevada. The Red Rock Visitors Center needs urgent repair and replacement of a hot tar roof. The Scenic Drive at the Red Rock Canyon will remain open.

EFFECTIVE DATES: The closure will go into effect March 27, 2000 through March 31, 2000. The Visitors Center will reopen on April 1, 2000.

FOR FURTHER INFORMATION CONTACT: Sheree Fisher at (702) 647-5142 or Bob Dunn at (702) 647-5103.

Dated: March 15, 2000.
James R. Dunn,
Acting Field Manager.

[FR Doc. 00-7089 Filed 3-21-00; 8:45 am]

BILLING CODE 4310-MR-M